DEPARTMENT OF THE INTERIOR

Office of the Secretary

Notice of Proposed Information Collection

AGENCY: Office of the Secretary, Office of Budget, Interior.

ACTION: Notice and request for comments.

SUMMARY: The proposal for the collection of information listed below has been submitted to the Office of Management and Budget (OMB) for approval under the provisions of the Paperwork Reduction Act (44 U.S.C. Chapter 35). Copies of the proposed information collection request may be obtained by contacting the Office of Budget at the phone number listed below in the “For Further Information Contact” section. Comments and suggestions on this proposal should be made directly to the Office of Management and Budget. A copy of the comments and suggestions should also be sent to the Office of Budget, at the address listed below.

DATES: OMB has up to 60 days to approve or disapprove the information collection, but may respond after 30 days. Therefore, public comments should be submitted to OMB by December 18, 2006 in order to be assured of consideration.

ADDRESSES: Send your written comments to Office of Management and Budget, Office of Information and Regulatory Affairs, Attention, Department of the Interior Desk Officer, by fax to 202-395-6566, or by e-mail to oira_docket@omb.eop.gov. Send a copy of your written comments to the Office of Budget, Attn: William Howell, Department of the Interior, MS 4116 MIB, 1849 C St., NW., Washington, DC 20240. Individuals providing comments should reference OMB control #1093-0005, “Payments in Lieu of Taxes (PILT Act), Statement of Federal Land Payments, (43 CFR 44).”

FOR FURTHER INFORMATION CONTACT: To request more information on this proposed information collection or to obtain a copy of the proposal and associated collection instrument, please write to the above address, or call William Howell, (202) 208-3157.

SUPPLEMENTARY INFORMATION:

I. Abstract

Office of Management and Budget (OMB) regulations at 5 CFR 1320, which implement the Paperwork Reduction Act of 1995 (Pub. L. 104-13), require that interested members of the public and affected agencies have an opportunity to comment on information collection and recordkeeping activities (see 5 CFR 1320.8(d)). This notice identifies an information collection activity that the Office of Budget has submitted to OMB for extension or re-approval.

Public Law 97-258 (31 U.S.C. 6901-6907), as amended, the Payment in Lieu of Taxes (PILT) Act, was designed by Congress to help local governments recover some of the expenses they incur in providing services on public lands. These local governments receive funds under various Federal land payment programs such as the National Forest Revenue Act, the Mineral Lands Leasing Act, and the Taylor Grazing Act. PILT payments supplement the payments that local governments receive under these other programs.

The PILT Act requires that the Governor of each state furnish the Department of the Interior with a listing of payments disbursed to local governments by the states on behalf of the Federal Government under 12 statutes described in Section 4 of the Act (31 U.S.C. 6903). The Department of the Interior uses the amounts reported by the states to reduce PILT payments to units of general local governments from that which they might otherwise receive. If such listings were not furnished by the Governor of each affected state, the Department would not be able to compute the PILT payments to units of general local government within the states in question.

The information collection supporting the PILT Act was initially administered by the Bureau of Land Management, within the Department of the Interior, as “Payments in Lieu of Taxes (PILT Act), Statement of Federal Land Payments, (43 CFR 1881),” OMB control #1004-0109. However, in fiscal year 2004, administrative authority for the PILT program was transferred from the Bureau of Land Management to the Office of Budget within the Office of the Secretary of the Department of the Interior. Applicable DOI regulations pertaining to the PILT program to be administered by the Office of the Secretary were published as a final rule in the Federal Register on December 7, 2004. Recently, the Office of Budget, within the Office of the Secretary, requested emergency approval of the information collection as “Payments in Lieu of Taxes (PILT Act), Statement of Federal Land Payments, (43 CFR 44).” OMB approved the information collection under control #1093-0005. The Office of Budget, Office of the Secretary is now planning to extend the information collection approval for the standard 3 years in order to enable the Department of the Interior to continue to comply with the PILT Act.

II. Data

(1) Title: Payments in Lieu of Taxes (PILT Act), Statement of Federal Land Payments, (43 CFR 44).

OMB Control Number: 1093-0005.

Current Expiration Date: 11/30/2006.

Type of Review: Information Collection: Renewal.

Affected Entities: State, Local, or Tribal Government.

Estimated Annual Number of Respondents: 43.

Frequency of response: Annual.

(2) Annual reporting and recordkeeping burden.

Total annual reporting per respondent: 50 hours.

Total annual reporting: 2150 hours.

(3) Description of the need and use of the information: The statutorily-required information is needed to compute payments due units of general local government under the PILT Act (31 U.S.C. 6901-6907). The Act requires that the Governor of each state furnish a statement as to amounts paid to units of general local government under 12 revenue-sharing statutes in the prior fiscal year.

III. Request for Comments

The Department of the Interior invites comments on:

(a) Whether the collection of information is necessary for the proper performance of the functions of the agency, including whether the information will have practical utility;

(b) The accuracy of the agency's estimate of the burden of the collection and the validity of the methodology and assumptions used;

(c) Ways to enhance the quality, utility, and clarity of the information to be collected; and

(d) Ways to minimize the burden of the collection of information on those who are to respond, including through the use of appropriate automated, electronic, mechanical, or other collection techniques or other forms of information technology.

Burden means the total time, effort, or financial resources expended by persons to generate, maintain, retain, disclose or provide information to or for a federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

An agency may not conduct or sponsor, and a person is not required to respond to, a collection of information unless it displays a currently valid Office of Management and Budget control number.

Dated: November 13, 2006.
Pam Haze,
Co-Director, Office of Budget, Office of the Secretary.

[FR Doc. E6-19508 Filed 11-16-06; 8:45 am]

BILLING CODE 4310-RK-P